DEPARTMENT OF HEALTH AND HUMAN SERVICES

Health Resources and Services Administration

Fiscal Year 2004 Geriatric Academic Career Awards (GACA)—CFDA 93.250

AGENCY: Health Resources and Services Administration, HHS.

ACTION: Extension of deadline date; correction.

SUMMARY: The Health Resources and Services Administration published a document in the Federal Register of April 27, 2004, containing an incorrect announcement number for the extension of a due date.

In FR Doc. 04-9472, in the Federal Register of April 27, 2004, on page 22849, in the second column, line 12 the language “HRSA-03-019 Fiscal Year 2004” is corrected to read: “HRSA-04-024 Fiscal Year 2004.”

Dated: May 10, 2004.
Tina M. Cheatham,
Director, Division of Policy Review and Coordination.

[FR Doc. 04-10978 Filed 5-13-04; 8:45 am]

BILLING CODE 4165-15-P